Proclamation 8443 of October 23, 2009

Declaration of a National Emergency With Respect to the 2009 H1N1 Influenza Pandemic

By the President of the United States of America

A Proclamation

On April 26, 2009, the Secretary of Health and Human Services (the “Secretary”) first declared a public health emergency under section 319 of the Public Health Service Act, 42 U.S.C. 247d, in response to the 2009 H1N1 influenza virus. The Secretary has renewed that declaration twice, on July 24, 2009, and October 1, 2009. In addition, by rapidly identifying the virus, implementing public health measures, providing guidance for health professionals and the general public, and developing an effective vaccine, we have taken proactive steps to reduce the impact of the pandemic and protect the health of our citizens. As a Nation, we have prepared at all levels of government, and as individuals and communities, taking unprecedented steps to counter the emerging pandemic. Nevertheless, the 2009 H1N1 pandemic continues to evolve. The rates of illness continue to rise rapidly within many communities across the Nation, and the potential exists for the pandemic to overburden health care resources in some localities. Thus, in recognition of the continuing progression of the pandemic, and in further preparation as a Nation, we are taking additional steps to facilitate our response.

NOW, THEREFORE, I, BARACK OBAMA, President of the United States of America, by virtue of the authority vested in me by the Constitution and the laws of the United States, including sections 201 and 301 of the National Emergencies Act (50 U.S.C. 1601 et seq.) and consistent with section 1135 of the Social Security Act (SSA), as amended (42 U.S.C. 1320b-5), do hereby find and proclaim that, given that the rapid increase in illness across the Nation may overburden health care resources and that the temporary waiver of certain standard Federal requirements may be warranted in order to enable U.S. health care facilities to implement emergency operations plans, the 2009 H1N1 influenza pandemic in the United States constitutes a national emergency. Accordingly, I hereby declare that the Secretary may exercise the authority under section 1135 of the SSA to temporarily waive or modify certain requirements of the Medicare, Medicaid, and State Children’s Health Insurance programs and of the Health Insurance Portability and Accountability Act Privacy Rule throughout the duration of the public health emergency declared in response to the 2009 H1N1 influenza pandemic. In exercising this authority, the Secretary shall provide certification and advance written notice to the Congress as required by section 1135(d) of the SSA (42 U.S.C. 1320b-5(d)).

IN WITNESS WHEREOF, I have hereunto set my hand this twenty-third day of October, in the year of our Lord two thousand nine, and of the Independence of the United States of America the two hundred and thirty-fourth.

[FR Doc. E9-26130

Filed 10-27-09; 8:45 am]

Billing code 3195-W9-P